DEPARTMENT OF THE INTERIOR

Bureau of Ocean Energy Management

[OMB Control Number 1010-0048; Docket ID: BOEM-2017-0016]

Agency Information Collection Activities; 30 CFR 551, Geological and Geophysical Explorations of the Outer Continental Shelf

AGENCY: Bureau of Ocean Energy Management, Interior.

ACTION: Notice of information collection; request for comment.

SUMMARY: In accordance with the Paperwork Reduction Act of 1995, the Bureau of Ocean Energy Management (BOEM) is proposing to renew an information collection request (ICR) with revisions.

DATES: Interested persons are invited to submit comments on or before December 24, 2019.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0048 in the subject line of your comments.

FOR FURTHER INFORMATION CONTACT: To request additional information about this ICR, contact Anna Atkinson by email, or by telephone at 703-787-1025.

SUPPLEMENTARY INFORMATION: In accordance with the Paperwork Reduction Act of 1995, BOEM provides the general public and other Federal agencies with an opportunity to comment on new, proposed, revised, and continuing collections of information. This helps BOEM assess the impact of our information collection requirements and minimize the public's reporting burden. It also helps the public understand our information collection requirements and provide the requested data in the desired format.

BOEM is soliciting comments on the proposed ICR described below. We are especially interested in public comment addressing the following issues: (1) Is the collection necessary to the proper functions of BOEM; (2) what can BOEM do to ensure that this information be processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in our request to the Office of Management and Budget (OMB) for approval of this ICR. You should be aware that your entire comment—including your address, phone number, email address, or other personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

BOEM protects proprietary information in accordance with the Freedom of Information Act (5 U.S.C. 552) and the Department of the Interior's implementing regulations (43 CFR part 2), and under applicable sections of 30 CFR part 551 promulgated pursuant to Outer Continental Shelf Lands Act (OCSLA) at 43 U.S.C. 1352(c).

Abstract: Section 11(g) of the OCSLA, as amended (43 U.S.C. 1340(g)), authorizes the Secretary of the Interior to prescribe rules and regulations to govern the issuance of permits for geological exploration on the Outer Continental Shelf (OCS). The OSCLA at 43 U.S.C. 1340 states that “any person authorized by the Secretary may conduct geological and geophysical explorations in the [O]uter Continental Shelf, which do not interfere with or endanger actual operations under any lease maintained or granted pursuant to this subchapter, and which are not unduly harmful to aquatic life in such area.” The section further provides that permits to conduct such activities may be issued only if it is determined that: The applicant is qualified; the activities will not interfere with or endanger operations under any lease issued or maintained pursuant to OCSLA; and the activities will not be unduly harmful to aquatic life, result in pollution, create hazardous or unsafe conditions, unreasonably interfere with other uses of the area, or disturb any site, structure, or object of historical or archaeological significance.

Applicants for permits are required to submit Form BOEM-0327 to provide the information necessary to evaluate their qualifications, and upon approval, respondents are issued a permit. Once an application is reviewed and approved, a permit (Form BOEM-0328 and Form BOEM-0329) is signed by BOEM and the permittee.

The Independent Offices Appropriations Act (31 U.S.C. 9701), the Omnibus Appropriations Bill (Pub. L. 104-133, 110 Stat. 1321, April 26, 1996), and OMB Circular A-25 authorize Federal agencies to recover the full cost of services that confer special benefits. All geological and geophysical permits are subject to cost recovery, and BOEM regulations specify service fees for these requests.

Regulations to carry out these responsibilities are contained in 30 CFR part 551 and are the subject of this information collection renewal. BOEM uses the information to:

• Identify oil, gas, sulfur, and mineral resources in the OCS;

• Ensure the receipt of fair value for mineral resources;

• Ensure that the exploration activities do not cause harm to the environment or persons, or create unsafe operations and conditions, damage historical or archaeological sites, or interfere with other uses;

• Analyze and evaluate preliminary or planned drilling activities;

• Monitor progress and activities in the OCS;

• Acquire geological and geophysical data and information collected under a Federal permit offshore; and

• Determine eligibility for reimbursement from the government for certain costs.

In this renewal, BOEM is renewing Form BOEM-0327—Requirements for Geological or Geophysical Explorations or Scientific Research on the Outer Continental Shelf. This form consists of the requirements for geological and geophysical activities requiring Permits and Notices, along with the application that the respondent submits to BOEM for approval, as well as a nonexclusive use agreement for scientific research, if applicable.

Upon BOEM approval of the application, respondents are issued a permit using Form BOEM-0328, Permit for Geophysical Exploration for Mineral Resources or Scientific Research on the Outer Continental Shelf, for conducting geophysical exploration for mineral resources or scientific research, or Form BOEM-0329, Permit for Geological Exploration for Mineral Resources or Scientific Research on the Outer Continental Shelf, for conducting geological exploration for mineral resources or scientific research. These permits are filled in by BOEM and do not incur a respondent hour burden. However, BOEM plans to revise these permits to include additional language. The modifications to the permits will allow BOEM to request the geological and geophysical data prior to the permittee deleting or removing the data from records, but still provides the option for the permittee to no longer maintain the data after ten years. The following describes the proposed changes:

• Form BOEM-0328 would include additional language in Section IV Paragraph (A) stating:

“After a period of 10 years from the issuance of the permit, the permittee must notify the Supervisor in writing if their intention is to no longer maintain all or part of the geophysical data, processed geophysical information, and interpreted geophysical information, and provide the Supervisor 30 days to request that the permittee submit for inspection and possible retention all or part of the geophysical data, processed geophysical information, and interpreted geophysical information.”

• Form BOEM-0329 would include additional language in Section VI Paragraph (A) stating:

“After a period of 10 years from the issuance of the permit, the permittee must notify the Supervisor in writing if their intention is to no longer maintain all or part of the geological data, analyzed geological information, processed geological information, and interpreted geological information, and provide the Supervisor 30 days to request that the permittee submit for inspection and possible retention all or part of the geological data, analyzed geological information, processed geological information, and interpreted geological information.”

Title of Collection: 30 CFR 551, Geological and Geophysical Explorations of the OCS.

OMB Control Number: 1010-0048.

Form Number: BOEM-0327, Requirements for Geological or Geophysical Explorations or Scientific Research on the Outer Continental Shelf.

Type of Review: Revision of a currently approved collection.

Respondents/Affected Public: Potential respondents comprise Federal OCS oil, gas, and sulfur permittees or notice filers.

Total Estimated Number of Annual Responses: 688 responses.

Total Estimated Number of Annual Burden Hours: 35,254 hours.

Respondent's Obligation: Mandatory.

Frequency of Collection: On occasion, annual, or as specified in permit.

Total Estimated Annual Non-hour Burden Cost: $136,816.

Estimated Reporting and Recordkeeping Hour Burden: The currently approved OMB paperwork burden is 35,254 annual burden hours, and will remain the same.

An agency may not conduct or sponsor, and a person is not required to respond to, a collection of information unless it displays a currently valid OMB control number. The authority for this action is the Paperwork Reduction Act of 1995 (44 U.S.C. 3501 et seq.).

Dated: October 21, 2019.
Deanna Meyer-Pietruszka,
Chief, Office of Policy, Regulation, and Analysis.

[FR Doc. 2019-23247 Filed 10-24-19; 8:45 am]

BILLING CODE 4310-MR-P